DEPARTMENT OF COMMERCE

National Oceanic and Atmospheric Administration

50 CFR Part 665

[Docket No. 121107617-3181-02]

RIN 0648-XC351

Western Pacific Fisheries; 2013 Annual Catch Limits and Accountability Measures

AGENCY: National Marine Fisheries Service (NMFS), National Oceanic and Atmospheric Administration (NOAA), Department of Commerce.

ACTION: Final specifications.

SUMMARY: In this rule, NMFS specifies annual catch limits for western Pacific bottomfish, crustacean, precious coral, and coral reef ecosystem fisheries, and accountability measures to correct or mitigate any overages of catch limits. The catch limits and accountability measures support the long-term sustainability of fishery resources of the U.S. Pacific Islands.

DATES: The final specifications are effective April 12, 2013 through December 31, 2013.

ADDRESSES: Copies of the fishery ecosystem plans are available from the Western Pacific Fishery Management Council (Council), 1164 Bishop St., Suite 1400, Honolulu, HI 96813, tel 808-522-8220, fax 808-522-8226, or www.wpcouncil.org. Copies of the environmental assessments and findings of no significant impact for this action, identified by NOAA-NMFS-2012-0226, are available from www.regulations.gov, or from Michael D. Tosatto, Regional Administrator, NMFS Pacific Islands Region (PIR), 1601 Kapiolani Blvd. 1110, Honolulu, HI 96814.

FOR FURTHER INFORMATION CONTACT: Jarad Makaiau, NMFS PIR Sustainable Fisheries, 808-944-2108.

SUPPLEMENTARY INFORMATION: NMFS is specifying the 2013 annual catch limits (ACLs) and accountability measures (AM) for bottomfish, crustacean, precious coral, and coral reef ecosystem fishery management unit species (MUS) in the U.S. Exclusive Economic Zone (EEZ, generally 3-200 nm from shore) around American Samoa, Guam, the Commonwealth of the Northern Mariana Islands (CNMI), and Hawaii. The 2013 fishing year begins on January 1 and ends on December 31, except for precious coral fisheries, for which the fishing year began on July 1, 2012, and ends on June 30, 2013.

NMFS is not specifying ACLs for bottomfish, crustacean, precious coral, or coral reef ecosystem MUS identified in the Fishery Ecosystem Plan (FEP) for the U.S. Pacific Remote Island Areas (PRIA), because commercial fishing is prohibited in the Pacific Remote Islands Marine National Monument, typically within about 50 nm of shore (Presidential Proclamation 8336, January 12, 2009, 74 FR 1565). Moreover, there is no suitable habitat for these fisheries, except at Kingman Reef, where fishing for these resources does not presently occur. NMFS is currently reviewing a proposed amendment to the PRIA FEP, which proposes to permit non-commercial fishing 12 nm seaward of emergent features in the Pacific Remote Islands Monument, and ensure such fishing, if allowed, is managed as a sustainable activity (see the proposed rule, February 21, 2013, 78 FR 12015).

Additionally, NMFS is not specifying ACLs for MUS that are currently subject to Federal fishing moratoria or prohibitions. These MUS include all species of gold coral, all species of deepwater precious corals at the Westpac Bed Refugium, and the three Hawaii seamount groundfish: pelagic armorhead, alfonsin, and raftfish. The current prohibitions on fishing for these MUS serve as a functional equivalent of an ACL of zero. Finally, NMFS is also not specifying ACLs for pelagic MUS at this time, because it previously determined that pelagic species are subject to international fishery agreements or have a life cycle of approximately one year and, therefore, have statutory exceptions to the ACL requirements.

Table 1—American Samoa
Fishery | Management unit species | Proposed ACL specification
Bottomfish | Bottomfish multi-species stock complex | 101,000 lb (45,813 kg).
Crustacean | Deepwater Shrimp | 80,000 lb (36,287 kg).
| Spiny Lobster | 2,300 lb (1,043 kg).
| Slipper Lobster | 30 lb (14 kg).
| Kona Crab | 3,200 lb (1,451 kg).
Precious Coral | Black Coral | 790 lb (358 kg).
| Precious Corals in the American Samoa Exploratory Area | 2,205 lb (1,000 kg).
Coral Reef Ecosystem | Acanthuridae—surgeonfish | 19,516 lb (8,852 kg).
| Lutjanidae—snappers | 18,839 lb (8,545 kg).
| Selar crumenophthalmus—atule or bigeye scad | 8,396 lb (3,808 kg).
| Mollusks—turbo snail; octopus; giant clams | 16,694 lb (7,572 kg).
| Carangidae—jacks | 9,490 lb (4,305 kg).
| Lethrinidae—emperors | 7,350 lb (3,334 kg).
| Scaridae—parrotfish | 8,145 lb (3,695 kg).
| Serranidae—groupers | 5,600 lb (2,540 kg).
| Holocentridae—squirrelfish | 2,585 lb (1,173 kg).
| Mugilidae—mullets | 2,857 lb (1,296 kg).
| Crustaceans—crabs | 2,248 lb (1,020 kg).
| Bolbometopon muricatum—bumphead parrotfish | 235 lb (107 kg).
| Cheilinus undulatus—Humphead (Napoleon) wrasse | 1,743 lb (791 kg).
| Carcharhinidae—Reef Sharks | 1,309 lb (594 kg).
| All Other CREMUS combined | 18,910 lb (8,577 kg).

Table 2—Mariana Archipelago—Guam
Fishery | Management unit species | Proposed ACL specification
Bottomfish | Bottomfish multi-species stock complex | 66,800 lb (30,300 kg).
Crustaceans | Deepwater Shrimp | 48,488 lb (21,994 kg).
| Spiny Lobster | 2,700 lb (1,225 kg).
| Slipper Lobster | 20 lb (9 kg).
| Kona Crab | 1,900 lb (862 kg).
Precious Coral | Black Coral | 700 lb (318 kg).
| Precious Corals in the Guam Exploratory Area | 2,205 lb (1,000 kg).
Cora Reef Ecosystem | Acanthuridae—surgeonfish | 70,702 lb (32,070 kg).
| Carangidae—jacks | 45,377 lb (20,583 kg).
| Selar crumenophthalmus—atulai or bigeye scad | 56,514 lb (25,634 kg).
| Lethrinidae—emperors | 38,720 lb (17,563 kg).
| Scaridae—parrotfish | 28,649 lb (12,995 kg).
| Mullidae—goatfish | 25,367 lb (11,506 kg).
| Mollusks—turbo snail; octopus; giant clams | 21,941 lb (9,952 kg).
| Siganidae—rabbitfish | 26,120 lb (11,848 kg).
| Lutjanidae—snappers | 17,726 lb (8,040 kg).
| Serranidae—groupers | 17,958 lb (8,146 kg).
| Mugilidae—mullets | 15,032 lb (6,818 kg).
| Kyphosidae—chubs/rudderfish | 13,247 lb (6,009 kg).
| Crustaceans—crabs | 5,523 lb (2,505 kg).
| Holocentridae—squirrelfish | 8,300 lb (3,765 kg).
| Algae | 5,329 lb (2,417 kg).
| Labridae—wrasses | 5,195 lb (2,356 kg).
| Bolbometopon muricatum—bumphead parrotfish | 797 lb (362 kg) (CNMI and Guam combined).
| Cheilinus undulatus—Humphead (Napoleon) wrasse | 1,960 lb (889 kg).
| Carcharhinidae—Reef Sharks | 6,942 lb (3,149 kg).
| All Other CREMUS combined | 83,214 lb (37,745 kg).

Table 3—Mariana Archipelago—CNMI
Fishery | Management unit species | Proposed ACL specification
Bottomfish | Bottomfish multi-species stock complex | 228,000 lb (103,419 kg).
Crustacean | Deepwater Shrimp | 275,570 lb (124,996 kg).
| Spiny Lobster | 5,500 lb (2,495 kg).
| Slipper Lobster | 60 lb (27 kg).
| Kona Crab | 6,300 lb (2,858 kg).
Precious Coral | Black Coral | 2,100 lb (953 kg).
| Precious Corals in the CNMI Exploratory Area | 2,205 lb (1,000 kg).
Coral Reef Ecosystem | Lethrinidae—emperors | 27,466 lb (12,458 kg).
| Carangidae—jacks | 21,512 lb (9,758 kg).
| Acanthuridae—surgeonfish | 6,884 lb (3,123 kg).
| Selar crumenophthalmus—atulai or bigeye scad | 7,459 lb (3,383 kg).
| Serranidae—groupers | 5,519 lb (2,503 kg).
| Lutjanidae—snappers | 3,905 lb (1,771 kg).
| Mullidae—goatfish | 3,670 lb (1,665 kg).
| Scaridae—parrotfish | 3,784 lb (1,716 kg).
| Mollusks—turbo snail; octopus; giant clams | 4,446 lb (2,017 kg).
| Mugilidae—mullets | 3,308 lb (1,500 kg).
| Siganidae—rabbitfish | 2,537 lb (1,151 kg).
| Bolbometopon muricatum—bumphead parrotfish | 797 lb (362 kg) (CNMI and Guam combined).
| Cheilinus undulatus—Humphead (Napoleon) wrasse | 2,009 lb (911 kg).
| Carcharhinidae—Reef Sharks | 5,600 lb (2,540 kg).
| All Other CREMUS combined | 9,820 lb (4,454 kg).

Table 4—Hawaii
Fishery | Management unit species | Proposed ACL specification
Bottomfish | Non-Deep 7 Bottomfish | 145,000 (65,771 kg).
Crustacean | Deepwater Shrimp | 250,773 lb (113,749 kg).
| Spiny Lobster | 10,000 lb (4,536 kg).
| Slipper Lobster | 280 lb (127 kg).
| Kona Crab | 27,600 lb (12,519 kg).
Precious Coral | Auau Channel Black Coral | 5,512 lb (2,500 kg).
| Makapuu Bed—Pink Coral | 2,205 lb (1,000 kg).
| Makapuu Bed—Bamboo Coral | 551 lb (250 kg).
| 180 Fathom Bank—Pink Coral | 489 lb (222 kg).
| 180 Fathom Bank—Bamboo Coral | 123 lb (56 kg).
| Brooks Bank—Pink Coral | 979 lb (444 kg).
| Brooks Bank—Bamboo Coral | 245 lb (111 kg).
| Kaena Point Bed—Pink Coral | 148 lb (67 kg).
| Kaena Point Bed—Bamboo Coral | 37 lb (17 kg).
| Keahole Bed—Pink Coral | 148 lb (67 kg).
| Keahole Bed—Bamboo Coral | 37 lb (17 kg).
| Precious Corals in the Hawaii Exploratory Area | 2,205 lb (1,000 kg).
Coral Reef Ecosystem | Selar crumenophthalmus—akule or bigeye scad | 651,292 lb (295,421 kg).
| Decapterus macarellus—opelu or mackerel scad | 393,563 lb (178,517 kg).
| Carangidae—jacks | 193,423 lb (87,735 kg).
| Mullidae—goatfish | 125,813 lb (57,068 kg).
| Acanthuridae—surgeonfish | 80,545 lb (36,535 kg).
| Lutjanidae—snappers | 65,102 lb (29,530 kg).
| Holocentridae—squirrelfish | 44,122 lb (20,013 kg).
| Mugilidae—mullets | 41,112 lb (18,648 kg).
| Mollusks—turbo snails; octopus | 28,765 lb (13,048 kg).
| Scaridae—parrotfish | 33,326 lb (15,116 kg).
| Crustaceans—crabs | 20,686 lb (9,383 kg).
| Carcharhinidae—Reef Sharks | 111,566 lb (50,605 kg).
| All Other CREMUS combined | 142,282 lb (64,538 kg).

Accountability Measures

NMFS and the Council, relying on information from local resource management agencies in American Samoa, Guam, the CNMI, and Hawaii, will conduct a post-season accounting of the annual catch for each stock and stock complex immediately after the end of the fishing year. If an ACL is exceeded, the Council will take action in accordance with 50 CFR 600.310(g), which may include a recommendation that NMFS reduce the ACL for the subsequent fishing year by the amount of the overage, or other measure, as appropriate.

Additional background information on this action is found in the preamble to the proposed specifications, and is not repeated here.

Comments and Responses

On January 31, 2013, NMFS published a request for public comments (78 FR 6798) on proposed specifications that are finalized here. The public comment period ended on February 15, 2013. NMFS received two comments, and responds, as follows:

Comment 1: Affirming support for the proposed specifications as a tool to prevent overfishing of a renewable resource and ensure a better future for prosperity.

Response: NMFS agrees that these final specifications are essential to help prevent overfishing, and ensure sustainable, long-term catches for fishermen.

Comment 2: Fishermen should be able to catch as much fish as they can because a free market would establish better acceptable catch levels than a government agency.

Response: Federal law requires NMFS and the Council to manage fisheries using annual catch limits to ensure sustainable fisheries. NMFS and the Council developed the annual catch limit specifications using the best available scientific and commercial information, and in consideration of scientific uncertainty and social and economic factors. The final specifications result from the mechanism established in the Council's fishery ecosystem plans, consistent with the National Standard 1 requirements found at 50 CFR 600.310.

Changes From the Proposed Specifications

There are no changes in the final specifications.

Classification

The Regional Administrator, NMFS PIR, determined that this action is necessary for the conservation and management of Pacific Island fishery resources, and that it is consistent with the Magnuson-Stevens Fishery Conservation and Management Act and other applicable laws.

The Chief Counsel for Regulation of the Department of Commerce certified to the Chief Counsel for Advocacy of the Small Business Administration during the proposed specification stage that this action would not have a significant economic impact on a substantial number of small entities. The factual basis for the certification was published in the proposed specifications and is not repeated here. No comments were received regarding this certification. As a result, a regulatory flexibility analysis was not required, and none was prepared.

This action is exempt from review under Executive Order 12866.

Authority: 16 U.S.C. 1801 et seq.

Dated: March 8, 2013.
Alan D. Risenhoover,
Director, Office of Sustainable Fisheries, performing the functions and duties of the Deputy Assistant Administrator for Regulatory Programs, National Marine Fisheries Service.

[FR Doc. 2013-05785 Filed 3-12-13; 8:45 am]

BILLING CODE 3510-22-P